SMALL BUSINESS ADMINISTRATION

[Declaration of Economic Injury Disaster #9L78]

Commonwealth of Massachusetts (and Contiguous Counties in New Hampshire)

Essex County and the contiguous county of Middlesex in the Commonwealth of Massachusetts; and Hillsborough and Rockingham Counties in the State of New Hampshire constitute an economic injury disaster loan area as a result of a fire that occurred on April 28, 2001 in Amesbury, Massachusetts. Eligible small businesses and small agricultural cooperatives without credit available elsewhere may file applications for economic injury assistance as a result of this disaster until the close of business on March 1, 2002 at the address listed below or other locally announced locations: U.S. Small Business Administration, Disaster Area 1 Office, 360 Rainbow Blvd, South 3rd Floor, Niagara Falls, NY 14303.

The interest rate for eligible small businesses and small agricultural cooperatives is 4 percent. The numbers assigned for economic injury for this disaster are 9L7800 for Massachusetts; and 9L7900 for New Hampshire.

(Catalog of Federal Domestic Assistance Program No. 59002)

Dated: June 1, 2001.
John Whitmore,
Acting Administrator.

[FR Doc. 01-14565 Filed 6-8-01; 8:45 am]

BILLING CODE 8025-01-P